DEPARTMENT OF HEALTH AND HUMAN SERVICES

National Institutes of Health

National Institute of Neurological Disorders and Stroke; Amended Notice of Meeting

Notice is hereby given of a change in the meeting of the Neurological Sciences and Disorders C, October 30, 2006, 8 a.m. to October 31, 2006, 5 p.m. The Watergate Hotel, 2650 Virginia Avenue, NW., Washington, DC 20037 which was published in the Federal Register on September 21, 2006, 71 FR: 06-8344.

The meeting will be held on October 30, 2006 for a one day meeting. The meeting is closed to the public.

Dated: October 19, 2006.
Anna Snouffer,
Acting Director, Office of Federal Advisory Committee Policy.

[FR Doc. 06-8917 Filed 10-26-06; 8:45am]

BILLING CODE 4140-01-M